DEPARTMENT OF ENERGY

Federal Energy Regulatory Commission

Notice of Application Tendered For Filing With the Commission, Soliciting Additional Study Requests, Establishing Procedures for Relicensing and a Deadline for Submission of Final Amendments

April 23, 2002.

Take notice that the following hydroelectric application has been filed with the Commission and is available for public inspection.

a. Type of Application: New Major License.

b. Project No.: P-287-009.

c. Date Filed: April 8, 2002.

d. Applicant: Midwest Hydro Inc.

e. Name of Project: Dayton Hydroelectric Project.

f. Location: On the Fox River, near Dayton, in La Salle County, Illinois. The project does not affect federal lands.

g. Filed Pursuant to: Federal Power Act 16 U.S.C. 791 (a)-825(r).

h. Applicant Contact: Loyal Gake, Midwest Hydro Inc., 116 State St., P.O. Box 167, Neshkoro, WI 54960, (920) 293-4628.

i. FERC Contact: Mark Pawlowski, (202) 219-2795, or mark.pawlowski@ferc.gov.

j. Cooperating agencies: We are asking Federal, state, local, and tribal agencies with jurisdiction and/or special expertise with respect to environmental issues to cooperate with us in the preparation of the environmental document. Agencies who would like to request cooperating status should follow the instructions for filing comments described in item k below.

k. Deadline for filing additional study requests and requests for cooperating agency status: June 7, 2002.

All documents (original and eight copies) should be filed with: Magalie R. Salas, Secretary, Federal Energy Regulatory Commission, 888 First Street, NE, Washington, DC 20426. Comments, protests and interventions may be filed electronically via the Internet in lieu of paper; see 18 CFR 385.2001(a)(1)(iii) and the instructions on the Commission's web site under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. See 18 CFR 385.2001(a)(1)(iii) and the instructions on the Commission's web site (http://www.ferc.gov) under the “e-Filing” link.

l. This application is not ready for environmental analysis at this time.

m. The existing Dayton Hydroelectric Project consists of: (1) 594-foot-long arch-buttress uncontrolled fixed crest overflow concrete dam; (2) a 200-foot-long left earthen embankment; (3) a concrete head gate structure with four 15.5-foot-wide and 9.5 foot-high wooden gates located at the right abutment; (4) a 900-foot-long power canal; (5) a 200 acre impoundment; (6) a powerhouse containing three turbines with an installed capacity of 3,680 kW; and (7) appurtenant facilities. The applicant estimates that the total average annual generation would be 14,200 megawatthours. All generated is sold to the Illinois Power Company.

n. A copy of the application is on file with the Commission and is available for public inspection. This filing may also be viewed on the web at http://www.ferc.gov using the “RIMS” link—select “Docket #” and follow the instructions (call 202-208-2222 for assistance). A copy is also available for inspection and reproduction at the address in item h above.

o. With this notice, we are initiating consultation with the Illinois State Historic Preservation Officer (SHPO), as required by § 106, National Historic Preservation Act, and the regulations of the Advisory Council on Historic Preservation, 36 CFR 800.4.

p. Procedural schedule and final amendments: The application will be processed according to the following milestones, some of which may be combined to expedite processing:

Notice of application has been accepted for filing

Notice of application is ready for environmental analysis

Notice of the availability of the draft NEPA document

Notice of the availability of the final NEPA document

Order issuing the Commission's decision on the application

Final amendments to the application must be filed with the Commission no later than 30 days from the issuance date of the notice of ready for environmental analysis.

Magalie R. Salas,
Secretary.

[FR Doc. 02-10440 Filed 4-26-02; 8:45 am]

BILLING CODE 6717-01-P